NUCLEAR REGULATORY COMMISSION

[Docket Nos. 50-280 and 50-281]

Virginia Electric and Power Co., Surry Power Station, Units 1 and 2; Notice of Availability of the Final Supplement 6 to the Generic Environmental Impact Statement Regarding License Renewal for the Surry Power Station, Units 1 and 2

Notice is hereby given that the U.S. Nuclear Regulatory Commission (NRC) has published a final plant-specific Supplement 6 to the Generic Environmental Impact Statement (GEIS), NUREG-1437, regarding the renewal of operating licenses DPR-32 and DPR-37 for the Surry Power Station, Units 1 and 2, for an additional 20 years of operation. The Surry Power Station units are operated by Virginia Electric and Power Company (VEPCo). Surry Power Station is located on the Gravel Neck Peninsula in Surry County, Virginia. Possible alternatives to the proposed action (license renewal) include no action and reasonable alternative methods of power generation.

As discussed in Section 9.3 of the report:

Based on (1) the analysis and findings in the Generic Environmental Impact Statement for License Renewal of Nuclear Plants, NUREG-1437; (2) the Environmental Report submitted by VEPCo; (3) consultation with Federal, State, and local agencies; (4) the staff's own independent review; and (5) the staff's consideration of public comments, the recommendation of the staff is that the Commission determine that the adverse environmental impacts of license renewal for Surry Power Station, Units 1 and 2, are not so great that preserving the option of license renewal for energy planning decision-makers would be unreasonable.

The final Supplement 6 to the GEIS is available electronically for public inspection in the NRC Public Document Room (PDR) located at One White Flint North, 11555 Rockville Pike (first floor), Rockville, Maryland, or from the Publicly Available Records (PARS) component of NRC's Agency wide Documents Access and Management System (ADAMS). ADAMS is accessible from the NRC Web site at http://www.nrc.gov/ (the Public Electronic Reading Room). Persons who do not have access to ADAMS or who encounter problems in accessing the documents located in ADAMS, should contact the PDR Reference staff at 1-800-397-4209, 301-415-4737, or by e-mail to pdr@nrc.gov.

FOR FURTHER INFORMATION, CONTACT: Mr. Andrew J. Kugler, License Renewal and Environmental Impacts Program, Division of Regulatory Improvement Programs, U.S. Nuclear Regulatory Commission, Washington, DC 20555. Mr. Kugler may be contacted at 301-415-2828 or by writing to: Andrew J. Kugler, U.S. Nuclear Regulatory Commission, MS O-12D1, Washington, DC 20555.

Dated at Rockville, Maryland, this 4th day of December, 2002.
For the Nuclear Regulatory Commission.
Pao-Tsin Kuo,
Program Director, License Renewal and Environmental Impacts Program, Division of Regulatory Improvement Programs, Office of Nuclear Reactor Regulation.

[FR Doc. 02-31436 Filed 12-12-02; 8:45 am]

BILLING CODE 7590-01-P